DEPARTMENT OF DEFENSE

Office of the Secretary

[Docket ID: DoD-2013-OS-0093]

Submission for OMB Review; Comment Request

ACTION: Notice.

The Department of Defense has submitted to OMB for clearance, the following proposal for collection of information under the provisions of the Paperwork Reduction Act (44 U.S.C. Chapter 35).

DATES: Consideration will be given to all comments received by June 24, 2013.

Title, Associated Form and OMB Number: Web-based DoD Postsecondary Education Complaint System, 0704-TBD; DoD Postsecondary Education Complaint Intake—DD Form 2961 (electronic-only).

Type of Request: New Collection.

Number of Respondents: 9 per month; 100 annually.

Responses per Respondent: 1.

Annual Responses: 100.

Average Burden per Response: 10 minutes.

Annual Burden Hours: 17.

Needs and Uses: The information collection requirement is necessary to obtain, document, and respond to complaints, questions, and other information concerning postsecondary education and services provided to military students, veterans, and their adult family members. The President's Executive Order 13607, signed on April 27, 2012, calls for the creation of a robust, centralized complaint process for students receiving Federal military and veterans' educational benefits. The web based intake documents information electronically such as the level of study of the student, school the student is attending, type of education benefits being used, branch of the military service, substance of the complaint or issue, and preferred contact information for the person making the complaint.

Affected Public: Individuals or households.

Frequency: On occasion.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: May 20, 2013.
Aaron Siegel,
Alternate OSD Federal Register Liaison Officer, Department of Defense.

[FR Doc. 2013-12434 Filed 5-23-13; 8:45 am]

BILLING CODE 5001-06-P